DEPARTMENT OF ENERGY

Agency Information Collection Revision and Renewal

AGENCY: Department of Energy.

ACTION: Submission for Office of Management and Budget (OMB) review; comment request

SUMMARY: The Department of Energy (DOE) has submitted an information collection request to the OMB for revision and renewal under the provisions of the Paperwork Reduction Act of 1995. The information collection requests a three-year extension of its Privacy Act Information Request Form, OMB Control Number 1910-1700. This voluntary information collection request covers information necessary to establish the identity of individuals who request access to their records maintained in a system of records established under the Privacy Act, and to authorize agency personnel to locate and review the records.

DATES: Comments regarding this collection must be received on or before October 27, 2010. If you anticipate that you will be submitting comments, but find it difficult to do so within the period of time allowed by this notice, please advise the OMB Desk Officer of your intention to make a submission as soon as possible. The Desk Officer may be telephoned at (202) 395-4650.

ADDRESSES: Written comments should be sent to the Office of Information and Regulatory Affairs, Attention: Department of Energy Desk Officer, Office of Management and Budget, New Executive Office Building, Room 10102, 735 17th Street, NW., Washington, DC 20503; or to Jerry Hanley, Chief Privacy Officer, Office of Information Resources, MA-90, Department of Energy, 1000 Independence Avenue, SW., Washington, DC 20585 or by fax at (202) 586-0575.

FOR FURTHER INFORMATION CONTACT: Requests for additional information should be directed to Jerry Hanley at the address or number listed above.

SUPPLEMENTARY INFORMATION: This information collection request contains: (1) OMB No. 1910-1700; (2) Information Collection Request Title: Privacy Act Information Request; (3) Purpose: Use of the form to request records from the DOE is voluntary. The information in the form is used to authorize agency personnel to locate and review records in a system of records established under the Privacy Act. The form indicates the information the DOE requires to process a request under the Privacy Act. Use of the form reduces the number of incomplete submissions, and therefore, reduces delays in processing. Use of the form also can reduce processing time by the agency to provide records that may be necessary for claims under the Energy Employees Occupational Illness Compensation Program Act and other employment-related compensation programs; (4) Estimated Number of Respondents: 2,500 annually; (5) Estimated Total Burden Hours: .25 hour per response for respondents or 625 hours annually, including the time for reviewing instructions; (6) Number of Collections: The information collection request contains no information and/or recordkeeping requirements.

Statutory Authority: The Privacy Act of 1974, Title 5, United States Code 552a; the Paperwork Reduction Act of 1995, Title 44, United States Code, 3501, et seq.

Issued in Washington, DC, on September 10, 2010.
Ingrid Kolb,
Director, Office of Management.

[FR Doc. 2010-24123 Filed 9-24-10; 8:45 am]

BILLING CODE 6450-01-P